DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Coordinating Council on Tuesday, April 17, 2001. The meeting begins at 8 am. The letter designations that follow each item mean the following: (I) Is an information item; (A) is an action item; (D) is a discussion item. The General Session includes the following items: (1) Housekeeping items—introductions, antitrust, previous minutes, etc.; (2) Federal Report (I/D); (3) President's Report (I/D); (4) Council Membership Issues Discussion, SAE & APTA Ex-Officio with Voting Rights designation (D/A); (5) Annual Meeting 2001 Update (I/D); (6) 511 Update (I/D); (7) Break (20 minutes); (8) Joint Task Force on Deployment Strategy (I/D/A); (9) Weather Information Applications Task Force, Position Paper on Environmental Information in the ITS Architecture (D/A); (10) Data Security & Privacy Task Force, Standards & Protocol Committee (I/D); (11) APTS Committee Report, Bus & Paratransit Research Program Advice (D/A); (12) IVI Advice Letter (D/A); (13) Closing Housekeeping—next meeting dates/locations, adjourn.

ITS AMERICA provides a forum for national discussion and recommendations on ITS activities including programs, research needs, strategic planning, standards, international liaison, and priorities.

The charter for the utilization of ITS AMERICA establishes this organization as an advisory committee under the Federal Advisory Committee Act (FACA) 5 U.S.C. app. 2, when it provides advice or recommendations to DOT officials on ITS policies and programs. (56 FR 9400, March 6, 1991).

DATES: The Coordinating Council of ITS AMERICA will meet on Tuesday, April 17, 2001, from 8 a.m.-noon.

ADDRESSES: Hilton Crystal City at National Airport, 2399 Jefferson Davis Highway, Arlington, VA 22202; Phone: (703) 418-6800; Fax: (703) 418-3763.

FOR FURTHER INFORMATION CONTACT: Materials associated with this meeting may be examined at the offices of ITS AMERICA, 400 Virginia Avenue SW., Suite 800, Washington, DC 20024. Persons needing further information or who request to speak at this meeting should contact Debbie M. Busch at ITS AMERICA by telephone at (202) 484-2904 or by FAX at (202) 484-3483. The DOT contact is Kristy Frizzell, FHWA, HOIT, Washington, DC 20590, (202) 366-9536. Office hours are from 8:30 a.m. to 5 p.m., e.t., Monday through Friday, except for legal holidays.

Authority: 23 U.S.C. 315; 49 CFR 1.48.

Issued on: March 20, 2001.
Jeffrey Paniati,
ITS Program Manager, ITS Joint Program Office.

[FR Doc. 01-7268 Filed 3-22-01; 8:45 am]

BILLING CODE 4910-22-P